ENVIRONMENTAL PROTECTION AGENCY

[FRL-9946-73-OA]

Notification of a Public Meeting of the Science Advisory Board; Lake Erie Phosphorus Objectives Review Panel

AGENCY: Environmental Protection Agency (EPA).

ACTION: Notice.

SUMMARY: The Environmental Protection Agency (EPA or Agency) Science Advisory Board (SAB) Staff Office announces a public meeting of the SAB Lake Erie Phosphorus Objectives Review Panel to provide advice on the development of phosphorus loading targets for Lake Erie.

DATES: The public meeting will be held on June 21, 2016 from 9:00 a.m. to 5:00 p.m. (Central Time) and on June 22, 2016, from 8:30 a.m. to 2:00 p.m. (Central Time).

ADDRESSES: The public meeting will be held at the Palmer House Hilton Hotel, 17 East Monroe Street, Chicago, Illinois 60603.

FOR FURTHER INFORMATION CONTACT: Any member of the public who wants further information concerning this public meeting may contact Dr. Thomas Armitage, Designated Federal Officer (DFO), EPA Science Advisory Board Staff Office (1400R), U.S. Environmental Protection Agency, 1200 Pennsylvania Avenue NW., Washington, DC 20460; by telephone at (202) 564-2155 or via email at armitage.thomas@epa.gov. General information concerning the SAB can be found at http://www.epa.gov/sab.

SUPPLEMENTARY INFORMATION: Background: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C. App. 2. The SAB will comply with the provisions of FACA and all appropriate SAB Staff Office procedural policies. Pursuant to FACA and EPA policy, notice is hereby given that the SAB Lake Erie Phosphorus Objectives Review Panel will hold a public meeting to provide advice to the EPA on the development of phosphorus loading targets for Lake Erie. The Panel will provide advice to the Administrator through the chartered SAB. The Panel previously met in 2014 to develop advice on modeling approaches to meet the Great Lakes Water Quality Agreement (GLWQA) Lake Ecosystem Objectives (79 FR 68441-68442).

EPA Region 5 is co-leading a binational workgroup to develop and implement the Nutrients Annex (“Annex 4”) of the 2012 GLWQA in accordance with Article 3(b)(i) of the GLWQA. Under Annex 4, the United States and Canada were charged with establishing binational Substance Objectives for phosphorus concentrations, loading targets, and allocations for the nearshore and offshore waters of Lake Erie. The EPA Region 5 Water Division has requested that the SAB review modeling results that informed the development of the binational phosphorus reduction targets. The EPA has also requested advice on future work to support implementation and evaluation of nutrient reduction goals for Lake Erie. The SAB Panel will review the documents titled Annex 4 Ensemble Modeling Report and Appendix B, and Recommended Phosphorus Loading Targets for Lake Erie. Additional information about this SAB advisory activity can be found at the following URL http://yosemite.epa.gov/sab/sabproduct.nsf/fedrgstr_activites/GLWQA%20Annex%204?OpenDocument.

Technical Contacts: Any technical questions concerning work conducted under the GLWQA Annex 4 and the documents to be reviewed by the SAB should be directed to Ms. Santina Wortman, Water Division, U.S. EPA Region 5, 77 West Jackson Boulevard (WW-15J), Chicago, Illinois 60604, by telephone at (312) 353-8319 or via email at wortman.santina@epa.gov.

Availability of the meeting materials: Prior to the meeting, the review documents, meeting agenda and other materials will be accessible on the meeting page on the SAB Web site at http://www.epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity, including the charge to the panel and the EPA review documents, and/or the group conducting the activity, for the SAB to consider during the advisory process. Input from the public to the SAB will have the most impact if it consists of comments that provide specific scientific or technical information or analysis for the SAB panel to consider or if it relates to the clarity or accuracy of the technical information. Members of the public wishing to provide comment should contact the DFO directly.

Oral Statements: In general, individuals or groups requesting an oral presentation at the meeting will be limited to five minutes per speaker. Interested parties should contact Dr. Thomas Armitage, DFO, in writing (preferably via email), at the contact information noted above, by June 14, 2016 to be placed on the list of public speakers for the meeting.

Written Statements: Written statements will be accepted throughout the advisory process; however, for timely consideration by Panel members, statements should be supplied to the DFO (preferably via email) at the contact information noted above by June 14, 2016. It is the SAB Staff Office general policy to post written comments on the Web page for advisory meetings. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Armitage at the contact information provided above. To request accommodation of a disability, please contact Dr. Armitage preferably at least ten days prior to the meeting, to give EPA as much time as possible to process your request.

Dated: May 13, 2016.
Thomas H. Brennan,
Deputy Director, EPA Science Advisory Board Staff Office.

[FR Doc. 2016-11973 Filed 5-19-16; 8:45 am]

BILLING CODE 6560-50-P